GENERAL SERVICES ADMINISTRATION

[OMB Control No. 3090-0080]

Submission for OMB Review; Comment Request Entitled Contract Financing

AGENCY: General Services Administration (GSA).

ACTION: Notice of a request for an extension to an existing OMB clearance.

SUMMARY: Under the provisions of the Paperwork Reduction Act of 1995 (44 U.S.C. chapter 35), the General Services Administration

(GSA) has submitted to the Office of Management and Budget (OMB) a request to review and approve an extension of a previously approved information collection requirement concerning Contract Financing.

DATES: Comments may be submitted on or before September 11, 2001.

FOR FURTHER INFORMATION CONTACT: Jeremy Olson, Acquisition Policy Division, GSA (202) 501-3221.

ADDRESSES: Comments regarding this burden estimate or any other aspect of this collection of information, including suggestions for reducing this burden, should be submitted to: Edward Springer, GSA Desk Officer, OMB, Room 10236, NEOB, Washington, DC 20503, and a copy to Stephanie Morris, General Services Administration (MVP), 1800 F Street, NW., Room 4035, Washington, DC 20405.

SUPPLEMENTARY INFORMATION:

A. Purpose

The General Services Administration is requesting the Office of Management and Budget (OMB) to review and approve information collection, 3090-0080, concerning Contract Financing. Offerors are required to identify whether items are foreign source end products and the dollar amount of import duty for each product.

B. Annual Reporting Burden.

Respondents: 2,000.

Annual Responses: 2,000.

Average Hours Per Response: .1.

Burden Hours: 200.

Obtaining Copies of Proposals

A copy of this proposal may be obtained from the General Services Administration, Acquisition Policy Division (MVP), 1800 F Street, NW., Room 4035, Washington, DC 20405, or by telephoning (202) 501-4744, or by faxing your request to (202) 501-4067. Please cite OMB Control No. 3090-0080, Contract Financing, in all correspondence.

Dated: June 18, 2001.
David A. Drabkin,
Deputy Associate Administrator, Office of Acquisition Policy.

[FR Doc. 01-17611 Filed 7-12-01; 8:45 am]

BILLING CODE 6820-61-U